DEPARTMENT OF JUSTICE

Antitrust Division

Notice Pursuant to the National Cooperative Research and Production Act of 1993—Consortium for Strategic and Spectrum Mission Advanced Resilient Trusted Systems

Notice is hereby given that, on October 16, 2018, pursuant to Section 6(a) of the National Cooperative Research and Production Act of 1993, 15 U.S.C. 4301 et seq. (“the Act”), the Consortium for Strategic and Spectrum Mission Advanced Resilient Trusted Systems (“Consortium for Strategic”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties to the venture are: Consortium Management Group, Inc., on behalf of the Consortium for Strategic and Spectrum Mission Advanced Resilient Trusted Systems, Washington, DC; Fathom 4, LLC, Charleston, SC; Logistic Services International, Inc., Jacksonville, FL; Quantum Signal, LLC, Saline, MI; SIA Solutions, LLC, Houston, TX; and Tiburon Associates, Inc., Grand Rapids, MI.

The general area of Consortium for Strategic's planned activity is to enter into an Other Transaction Agreement (“OT Agreement”) with the U.S. Government (“Government”) (a) for the funding of certain research and development of prototype projects to enhance the capabilities of the Government in the fields of electromagnetic spectrum, trusted microelectronic and strategic missions hardware environments (“Strategic and Spectrum Mission”); (b) to participate in the establishment of sound technical and programmatic performance goals based on the needs and requirements of the Government's Technology Objectives; (c) to provide a unified voice to effectively articulate the global and strategically important role Strategic and Spectrum Mission plays in furthering national security objectives; and (d) to maximize the utilization of the Government's and Members' capabilities to effectively develop critical technologies which can be transitioned and commercialized.

Suzanne Morris,
Chief, Premerger and Division Statistics Unit, Antitrust Division.

[FR Doc. 2018-24809 Filed 11-13-18; 8:45 am]

BILLING CODE 4410-11-P